DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing updates to the identifying information of persons and a vessel currently included in the Specially Designated Nationals and Blocked Persons List (the SDN List). All property and interests in property of these persons or relating to this vessel that are subject to U.S. jurisdiction continue to be blocked, and U.S. persons generally continue to be prohibited from engaging in transactions with these persons or relating to this vessel.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Actions

A. On April 22, 2020, OFAC published the following revised identifying information for the following persons on the SDN List whose property and interests in property continue to be blocked pursuant to Executive Order (E.O.) 13566 of February 25, 2011, “Blocking Property and Prohibiting Certain Transactions Related to Libya.”

Individuals

1. QADHAFI, Ayesha (a.k.a. AL-GADDAFI, Ayesha; a.k.a. AL-QADHAFI, Aisha; a.k.a. ELKADDAFI, Aisha; a.k.a. EL-QADDAFI, Aisha; a.k.a. GADDAFI, Ayesha; a.k.a. GADHAFI, Aisha; a.k.a. GHADAFFI, Aisha; a.k.a. GHATHAFI, Aisha; a.k.a. GHATHAFI, Aisha Muammer; a.k.a. QADDAFI, Aisha; a.k.a. QADHAFI, Aisha; a.k.a. QADHAFI, Aisha Muammar Muhammed Abu Minyar), Oman; DOB 1977; alt. DOB 1976; alt. DOB 01 Jan 1978; POB Tripoli, Libya; Gender Female; Passport 215215 (Libya); alt. Passport 428720 (Libya); alt. Passport B/011641; alt. Passport 03824970 (Oman) issued 04 May 2014 expires 03 May 2024; National ID No. 98606612 (individual) [LIBYA2].

2. DORDA, Abu Zaid (a.k.a. ABUZED OE, Dorda; a.k.a. DORDA, Abouzid Omar; a.k.a. DORDA, Abu Zayd Umar; a.k.a. DORDA, Bu Zaid; a.k.a. DOURDA, Abu Zaid Omar; a.k.a. DURDA, Abu Zeid Omar), Libya; Egypt; DOB 04 Apr 1944; Gender Male; Passport FK117RK0 (Libya) issued 25 Nov 2018 expires 24 Nov 2026; alt. Passport FK117RKO (Libya) issued 25 Nov 2018 expires 24 Nov 2026; Director of the External Security Organization (individual) [LIBYA2].

B. On April 22, 2020, OFAC published the following revised identifying information for the following persons and vessel on the SDN List. All property and interests in property of these persons or relating to this vessel continue to be blocked pursuant to Executive Order 13726 of April 19, 2016, “Blocking Property and Suspending Entry Into the United States of Persons Contributing to the Situation in Libya.”

Individuals

Vessel

1. ZEUS (9H5319) Fishing Vessel Malta flag; Vessel Registration Identification IMO 8799619 (vessel) [LIBYA3] (Linked To: ANDREA MARTINA LIMITED).

Dated: April 22, 2020.
Andrea Gacki,
Director, Office of Foreign Assets Control.

[FR Doc. 2020-08884 Filed 4-24-20; 8:45 am]

BILLING CODE 4810-AL-P